DEPARTMENT OF AGRICULTURE

Forest Service

Notice of New Fee Sites

AGENCY: Green Mountain and Finger Lakes National Forests, USDA Forest Service

ACTION: Notice of New Fee Sites.

SUMMARY: The Green Mountain and Finger Lakes National Forests are proposing several new fees to recreation areas on the three ranger districts located within the Forests. Fees are assessed based on the level of amenities and services provided, cost of operations and maintenance and market assessment. These fees are proposed and will be determined upon further analysis and public comment. Fee revenue would be used for the continued operation and maintenance as well as improvements to the facilities within the recreation areas. An analysis of nearby recreation facilities with similar amenities shows that the proposed fees are reasonable and typical of similar sites in the area.

DATES: Send any comments about these fee proposals by October 13, 2017 to the appropriate ranger district listed below so comments can be compiled, analyzed, and shared with a Recreation Resource Advisory Committee.

ADDRESSES: Hector District Ranger, Finger Lakes National Forest, State Route 414, Hector, NY 14841; Manchester District Ranger, Green Mountain National Forest, 2538 Depot Street, Manchester Center, VT 05255; or Rochester District Ranger, Green Mountain National Forest, 99 Ranger Road, Rochester, VT 05767.

FOR FURTHER INFORMATION CONTACT: Hector Ranger District: Tim Noon, Natural Resource Specialist, (607) 546-4470; Manchester Ranger District: Emily Lauderdale, District Recreation Program Manager, (802) 362-2307; Rochester Ranger District: Holly Knox, District Recreation Program Manager, (802) 767-4261.

SUPPLEMENTARY INFORMATION: The Federal Recreation Lands Enhancement Act (Title VII, Pub. L. 108-447) directs the Secretary of Agriculture to publish a six month advance notice in the Federal Register whenever new recreation fee or fee areas are established.

The Green Mountain and Finger Lakes National Forests are proposing several new fees to recreation areas on the three ranger districts located within the Forests. They are as follows:

1. Hector Ranger District, Finger Lakes National Forest: Proposed new fees for Backbone Horse Camp for overnight use at $15.00 per night for one vehicle and one horse trailer, and a day use fee of $5.00 for one vehicle and one horse trailer.

2. Manchester Ranger District, Green Mountain National Forest: Proposed new fees for Grout Pond Recreation Area for overnight use at $16.00 per night for one vehicle, plus an additional $5 for each additional vehicle.

3. Rochester Ranger District, Green Mountain National Forest: Proposed new fees for Silver Lake Campground at $10 per night, plus an additional $5 for each additional vehicle; and Texas Falls Day Use Area Pavilion at $20 for up to 20 people, and $40 for 21-40 people.

A tremendous increase in recreation use at these specific areas on the Forests has shown that people appreciate and enjoy the availability of developed recreation facilities and pavilions. The Forests currently have several campgrounds and recreation areas with fees, and pavilions for rent. The campgrounds and recreation areas are often at capacity with pavilion rentals often fully booked throughout their rental season. A market analysis for each area indicates that the above proposed fees are both reasonable and acceptable for this sort of unique recreation experience. Revenue from the recreation fees will be used for improvements as well as the continued operation and maintenance of these sites. These fees will also help support sustainable recreation on the Forests.

The proposed fees will be reviewed by a Recreation Resource Advisory Committee prior to a final decision and implementation. If approved by the Eastern Regional Forester, the new fees would go into effect around May 2018. The Backbone Horse Camp, Grout Pond Recreation Area, Silver Lake Campground, and Texas Falls Day Use Area Pavilion will become available for recreational use and rentals around May 2018.

People wanting to reserve Backbone Horse Camp, Silver Lake Campground, or Texas Falls Day Use Area Pavilion will need to do so through Recreation One Stop, at www.recreation.gov or by calling 1-877-444-6777. Recreation One Stop charges a $10 fee for reservations.

Dated: August 11, 2017.
Glenn Casamassa,
Associate Deputy Chief, National Forest System.

[FR Doc. 2017-18233 Filed 8-28-17; 8:45 am]

BILLING CODE 3411-15-P